DEPARTMENT OF HEALTH AND HUMAN SERVICES

Substance Abuse and Mental Health Services Administration

Notice of a Meeting

Pursuant to Pub. L. 92-463, notice is hereby given of a meeting of the Substance Abuse and Mental Health Services Administration (SAMHSA) National Advisory Council in February 2002.

The SAMHSA National Advisory Council meeting will be open and will include a presentation by the New SAMHSA Administrator on his Vision and Priorities for the Agency, discussions on the Agency's restructuring and delayering plans, on the National Summit on Terrorism/BioTerrorism Response Activities, on the President's new Mental Health Commission, on FY 2002 appropriation issues, on the FY 2003 budget submission, and a presentation on the findings from the 2000 National Household Survey on Drug Abuse. There will also be a presentation by a SAMHSA National Advisory Council member on Workforce Shortage Issues. Finally, there will be reports by the Council's workgroups on co-occurring addictive and mental disorders and HIV/AIDS.

Attendance by the public will be limited to space available. Public comments are welcome. Please communicate with the individual listed as contact below to make arrangements to comment or to request special accommodations for persons with disabilities.

Substantive program information, a summary of the meeting, and a roster of Council members may be obtained from the contact whose name and telephone number is listed below.

Committee Name: SAMHSA National Advisory Council.

Date/Time: Tuesday, February 5, 2002, 9 a.m. to 5:45 p.m. (Open); Wednesday, February 6, 2002, 9 a.m. to 3:15 p.m. (Open).

Place: Gaithersburg Marriott Washingtonian Center, 9751 Washingtonian Boulevard, Gaithersburg, Maryland 20878.

Contact: Toian Vaughn, Executive Secretary 5600 Fishers Lane, Parklawn Building, Room 12C-05, Rockville, MD 20857, Telephone: (301) 443-7016; FAX: (301) 443-7590 and e-mail: TVaughn@samhsa.gov.

Dated: January 14, 2002.
Toian Vaughn,
Committee Management Officer, SAMHSA.

[FR Doc. 02-1410 Filed 1-18-02; 8:45 am]

BILLING CODE 4162-20-P